DEPARTMENT OF DEFENSE

Department of the Navy

Meeting of the Naval Research Advisory Committee

AGENCY: Department of the Navy, DOD.

ACTION: Notice.

SUMMARY: The Naval Research Advisory Committee (NRAC) Panel on Command Center of the Future will meet to assess current and future operational requirements, deficiencies and vulnerabilities, and recommend a Department of the Navy strategy for developing a next generation Maritime Command and Control Capability. All sessions of the meeting will be devoted to executive sessions that will include discussions and technical examination of information related to current command and control system vunlerabilities; current and projected military command and control requirements; recent operational lessons learned from Pacific theater command centers; and command and control information sources and system requirements for future planned systems. All sessions of the meeting will be closed to the public.

DATES: The meeting will be held on Thursday, June 22, 2000, from 8 a.m. to 5 p.m.; and Friday, June 23, 2000, from 8 a.m. to 5 p.m.

ADDRESSES: The meeting will be held at the Lockheed Martin Naval Electronics and Surveillance Systems—Manassas Laboratory, 9500 Godwin Drive, Manassas, Virginia.

FOR FURTHER INFORMATION CONTACT: Diane Mason-Muir, Program Director, Naval Research Advisory Committee, 800 North Quincy Street, Arlington, VA 22217-5660, telephone (703) 696-6769.

SUPPLEMENTARY INFORMATION: This notice of meeting is provided in accordance with the provisions of the Federal Advisory Committee Act (5 U.S.C. App. 2). All sessions of the meeting will be devoted to discussions involving technical examination of information related to current and projected operational requirements, deficiencies and vulnerabilities of the Navy and Marine Corps command and control systems. These discussions will contain classified information that is specifically authorized under criteria established by Executive Order to be kept secret in the interest of national defense and are in fact properly classified pursuant to such Executive Order. The classified and non-classified matters to be discussed are so inextricably intertwined as to preclude opening any portion of the meeting. In accordance wit 5 U.S.C. App. 2, section 10(d), the Under Secretary of the Navy has determined in writing that the public interest requires that all sessions of the meeting be closed to the public because they will be concerned with matters listed in 5 U.S.C. section 552b(c)(1). Due to unavoidable delay in administrative processing, the normal 15 days notice could not be provided.

Dated: June 20, 2000.
C.G. Carlson,
Major, U.S. Marine Corps, Alternate Federal Register Liaison Officer.

[FR Doc. 00-15888 Filed 6-21-00; 8:45 am]

BILLING CODE 3810-FF-P